DEPARTMENT OF HEALTH AND HUMAN SERVICES

Office of Inspector General

Program Exclusions: June 2002

AGENCY: Office of Inspector General, HHS.

ACTION: Notice of program exclusions.

During the month of June 2002, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
ACEVEDO, IVETTE | 07/18/2002
MIAMI, FL
AGUILAR, JOEL MAZARIEGOS | 07/18/2002
POMONA, CA
ALVAREZ, MARIO | 07/18/2002
JUNCOS, PR
AREVALO, MARIO | 07/18/2002
WEST COVINA, CA
ATKINS, NICHOLAS C | 07/18/2002
ST CHARLES, IL
BARRETO, GUILLERMO JOSE | 07/18/2002
SAN DIEGO, CA
BELL-WISDOM, GLORIA FAY | 07/18/2002
ROLLA, MO
BOBO, PHILLIP K | 07/18/2002
TUSCALOOSA, AL
BOBO, PHILLIP K | 07/18/2002
TUSCALOOSA, AL
BOGINSKY, JULYA | 07/18/2002
NEW YORK, NY
BRENNER, STEPHEN | 07/18/2002
ROSLYN, NY
BRIOSO, LUIS ALBERTO | 07/18/2002
BELLE GLADE, FL
BRUSO, ROBERT | 07/18/2002
ST CLOUD, FL
BRYANT, YOLANDA KAY | 07/18/2002
HOUSTON, TX
CABRERA, MARTHA | 07/18/2002
MIAMI, FL
CABRERA-MARES, LAURA | 07/18/2002
MIAMI, FL
CABRERA-MEDRANO, BEATRIZ | 07/18/2002
MIAMI, FL
CAMPO, JACK | 07/18/2002
MIAMI, FL
CARLOW, SHELLI | 07/18/2002
DAVIE, FL
CHILDRESS, LARRY JOE | 07/18/2002
HOUSTON, TX
DEFANA, DANIEL | 07/18/2002
MIAMI, FL
DELATORRE, DORIS E | 07/18/2002
ST PETERSBURG, FL
DOGGETTE, CARL N | 07/18/2002
MONTGOMERY, AL
DUBIN, GARY I | 07/18/2002
BEVERLY HILLS, CA
DYSART, DEBORAH LYLE | 07/18/2002
BRYAN, TX
EM, PORNN | 07/18/2002
PERRIS, CA
FEDERGREEN, WARREN ROSS | 07/18/2002
JENSEN BEACH, FL
FERRER, BONIFACIO H | 07/18/2002
BRECKSVILLE, OH
FINE GOLD HEALTH CENTER, INC | 07/18/2002
GLENDALE, CA
FRAGA, EDUARDO | 07/18/2002
HOMESTEAD, FL
GALIOTO, SALVATORE J | 07/18/2002
WILMETTE, IL
GALLANT, ROBERT E | 07/18/2002
LEXINGTON, KY
GARCIGA, ACELIA | 07/18/2002
HIALEAH, FL
GEVORKIAN, GRIGOR | 07/18/2002
LONG BEACH, CA
GRAFFREE, TYRONE | 07/18/2002
PLYMOUTH, WI
GRAY, CARLA JO | 07/18/2002
GRAND JUNCTION, CO
GUTIERREZ, JUAN B | 07/18/2002
CORAL SPRINGS, FL
GYULNAZARYAN, SVETLANA MISHAYE | 07/18/2002
SANGER, CA
HINOJOSA, JORGE ALFONSO | 07/18/2002
CHULA VISTA, CA
HURST, JOHN M | 07/18/2002
HARRISBURG, PA
JEMINI, DAVID | 07/18/2002
FAIRTON, NJ
JEMINI, JACK | 07/18/2002
EGLIN AFB, FL
JETER, NINA L | 07/18/2002
MARYVILLE, WA
JONAH, YUKO U | 07/18/2002
DENVER, CO
KELLER MEDICAL SERVICE, INC | 07/18/2002
FORREST CITY, AR
KHAN, ABDUL H | 07/18/2002
TARPON SPRINGS, FL
KNIGHT, SHIRLEY B | 07/18/2002
TARBORO, NC
LOPEZ, GLADYS | 07/18/2002
MIAMI BEACH, FL
MALONEY, RITA I | 07/18/2002
RONAN, MT
MARKAVA TRANSPORTATION CO, INC | 07/18/2002
SUFFERN, NY
MASSA, ALFRED N | 07/18/2002
WHITE DEER, VA
MAXWELL, KENDRA | 07/18/2002
ONTARIO, CA
MCCLEARY, COLLEEN R | 07/18/2002
LACEY, WA
MCGOVERN'S AMBULANCE SERVICE | 04/16/2002
PORT CHARLOTTE, FL
MCGUIRE, MARK | 07/18/2002
LEXINGTON, KY
MEDEMA, DIANE L | 07/18/2002
IRVING, NY
MITTAL, BRIJ | 07/18/2002
OTISVILLE, NY
MURRAY, GAYLAN WADE | 07/18/2002
MEMPHIS, TN
NORTON, JAMES MICHAEL | 07/18/2002
COLEMAN, FL
NOVAK, STEVEN A | 07/18/2002
PEPPER PIKE, OH
ORTEGA, VICTOR | 07/18/2002
SAN JUAN, PR
PETERS, ALICE | 07/18/2002
DAYTON, TX
PETRILLO, HENRY J | 07/18/2002
NEW PORT RICHEY, FL
PINKOFF, LAWRENCE D | 07/18/2002
HOLLYWOOD, FL
POOT, MAGALY | 07/18/2002
MIAMI, FL
REDFERN, RONALD ORVILLE | 07/18/2002
PLANTATION, FL
ROBERT, ALFREDO | 07/18/2002
MIAMI, FL
ROGUE, ILIANA | 07/18/2002
MIAMI, FL
ROSENSWEET, MARTIN I | 07/18/2002
FORT DIX, NJ
RUIZ, ROSARIO | 04/10/2001
MIAMI, FL
SANCHEZ, LAURA SUE | 07/18/2002
APPLE VALLEY, CA
SARKISSIAN, SHUSHAN | 07/18/2002
LOS ANGELES, CA
SHIELDS, JOHN C | 07/18/2002
PITTSBURGH, PA
SOUTHARD, PATRICIA ANN | 07/18/2002
ALDERSON, WV
STOVER, ROBIN R | 07/18/2002
LARGO, FL
SUMMERLIN, JOANN | 07/18/2002
ZOLFO SPRINGS, FL
SWILLING, DAWN | 07/18/2002
COLEMAN, FL
SYCHAK, NICHOLAS A | 07/18/2002
MORGANTOWN, WV
TAPANES, DAYSI C | 07/18/2002
HIALEAH, FL
TENNANT, FORREST S JR | 07/18/2002
WEST COVINA, CA
VERONA, ALICIA | 07/18/2002
MIAMI, FL
WEINBERG, JOSEPH | 07/18/2002
SUFFERN, NY
WILLIAMS-KELLY, JOYCE | 07/18/2002
FREEPORT, NY
WOLICKI, ELIAV ISRAEL | 07/18/2002
NEW HEMPSTEAD, NY
WOODARD, MALCOLM S | 07/18/2002
HOPKINSVILLE, KY
YUVIENCO, SIMON | 07/18/2002
PAMPLONA (PH) 3522,
ZUZO, ELLEN | 07/18/2002
LOS ANGELES, CA
FELONY CONVICTION FOR HEALTH CARE FRAUD
ASEMANI, GHAFOUR B | 07/18/2002
ELLICOTT CITY, MD
FRAWLEY, MARK A | 07/18/2002
COOPERSBURG, PA
JAGGERS, KIMBERLEE ELIZABETH | 07/18/2002
COLEMAN, FL
JOHNSON, VIOLA | 07/18/2002
NASHVILLE, TN
KARPIN, LEONARDO G | 07/18/2002
MEDFORD, NJ
LONG, MARIE B | 07/18/2002
PIKEVILLE, TN
OSTROSKY, ROBERT F | 07/18/2002
PITTSBURGH, PA
SPEKTOR, JOSEPH | 07/18/2002
WOODCLIFF LAKE, NJ
WIRTH, RANDOLPH | 07/18/2002
E LANSING, MI
FELONY CONTROL SUBSTANCES CONVICTION
CHANDLER, SIDNEY MINTHORN | 07/18/2002
AUBURN, AL
CLARK, JOY JANELL | 07/18/2002
CEDAR HILLS, UT
DUCKWORTH, DEREK EDWARD | 07/18/2002
TOLEDO, OH
GARSOW, LORI KIM | 07/18/2002
GRAND RAPIDS, MN
GUANOJUATO, ERIC | 07/18/2002
PINE BLUFF, AR
GUIDO, JAMES N | 07/18/2002
FLATWOODS, KY
KADER, MITCHELL EDWIN | 07/18/2002
IRVINE, CA
KLOTZ, LINN ROBERT | 07/18/2002
ORLANDO, FL
MEDINA, ALICIA ERLINDA | 07/18/2002
HIGHLAND, CA
PAPPEL, PAMELA JEANNE | 07/18/2002
GRAND JUNCTN, CO
RUTTER-WASSOM, DIANE JOY | 07/18/2002
FT COLLINS, CO
SMITH FOSS, BRENDA L | 07/18/2002
WAGONER, OK
SOKOL, JENNIFER CLARE | 07/18/2002
MARION, IA
TORE, JOSEPH A | 07/18/2002
TOLEDO, OH
WIGINTON, CAROLYN C | 07/18/2002
SHAWNEE, OK
WOODWARD, MICHAEL H | 07/18/2002
RHINECLIFF, NY
WRIGHT, VALERIE H | 07/18/2002
JACKSONVILLE, FL
PATIENT ABUSE/NEGLECT CONVICTIONS
BARTOW, SUSANA | 07/18/2002
SALEM, NY
BLAKENEY, LISA HOUSTON | 07/18/2002
ALVARADO, TX
BOND, GLORIA J | 07/18/2002
BROKEN BOW, OK
BURNETT, MILAN CAPRICE | 07/18/2002
COFFEYVILLE, KS
CANSLOR, FLORA ANN | 07/18/2002
CLARKSDALE, MS
DAVIS, CAROLYN | 07/18/2002
GRANDFIELD, OK
EDDY, FREEMAN | 07/18/2002
PARKER, AZ
FINANCIAL SECURITY, INC | 07/18/2002
OURAY, CO
GABUS, JOSEPH THOMAS | 07/18/2002
HUNTSVILLE, TX
GLASER, VICTORIA MARIA | 07/18/2002
RENSSELAER, NY
GREEN, KENNETH S III | 07/18/2002
LA JOLLA, CA
GRIFFIN, ERICA | 07/18/2002
D'LO, MS
HALCOMB, DUSTY ALLEN | 07/18/2002
NOWATA, OK
HANN, MALINA LYNN | 07/18/2002
SPOKANE, WA
HARVEY, JERRY WAYNE | 07/18/2002
DEWEY, OK
HENDERSON, CATHERINE RENA | 07/18/2002
KOSCIUSKO, MS
HICKS, BYRON | 07/18/2002
PRENTISS, MS
KEATON, TIMOTHY CLYDE | 07/18/2002
MOREHEAD, KY
KIM, DAE HYUN | 07/18/2002
SANTA MARIA, CA
MCQUEEN, NANCY E | 07/18/2002
CONWAY, SC
PAULOS, GEORGE M | 07/18/2002
CONWAY, AR
PITTMAN, BRENDA WALKER | 07/18/2002
PRENTISS, MS
SALANGO, REBECCA | 07/18/2002
CARSON, CA
SANDERS, RUTH HELEN | 07/18/2002
HOT SPRINGS, AR
SELPH, JOHN H | 07/18/2002
VANCOUVER, WA
STALNAKER, SHEILA B | 07/18/2002
SULLIVAN, IL
SUMMLEARS, EMMA | 07/18/2002
HOLLY SPRINGS, MS
TOMLINSON, JUNE MONICA | 07/18/2002
EUCLID, OH
TRAVIS, MICHAEL A | 07/18/2002
NASHVILLE, TN
WOODS, VONDA | 07/18/2002
OXFORD, MS
WRIGHT, CHRYSTAL ANNETTE | 07/18/2002
SOMERSET, KY
CONVICTION FOR HEALTH CARE FRAUD
CIPOLLA, JOHN A | 07/18/2002
CRANSTON, RI
MARCELJA, EVELYN GLAZER | 07/18/2002
STONEHAM, MA
MCINTOSH, YVETTE SIMONE | 07/18/2002
DETROIT, MI
SMITH, DARRON TERRY | 07/18/2002
PROVO, UT
CONVICTION-OBSTRUCTION OF AN INVESTIGATION
MCCLEAN, EDWARD | 7/18/2002
MARLTON, NJ
CONTROLLED SUBSTANCE CONVICTIONS
LINI, MEGAN NOREEN | 7/18/2002
SAN DIEGO, CA
LICENSE REVOCATION/SUSPENSION/SURRENDERED
ABAIR, DARLENE A | 07/18/2002
WILLIAMSTOWN, VT
ABROMS, PHILLIP L | 07/18/2002
FLORENCE, AL
ADAMS-SMITH, PAMELA | 07/18/2002
BOGUE CHITTO, MS
ANDERSON, THERESA JANE | 07/18/2002
ST PAUL, MN
APARICIO, FRANCES C | 07/18/2002
PIRTLEVILLE, AZ
APPLEMAN, MICHAEL A | 07/18/2002
MINNEAPOLIS, MN
ARTIS, TYSHAUN THORTON | 07/18/2002
HOT SPRINGS, AR
BAGGETT, CHARLES LYNN | 07/18/2002
LIVE OAK, CA
BARRERA, A RODOLFO JOSE | 07/18/2002
MIAMI, FL
BASS, MITZI LUCILLE | 07/18/2002
TERRELL, TX
BAULER, GEORGE JAMES | 07/18/2002
WICHITA, KS
BEASLEY, ANGELIA MARIE | 07/18/2002
BLYTHEVILLE, AR
BEATTY, NIANNE HATHHORN | 07/18/2002
AUSTIN, TX
BECK, BETTY L | 07/18/2002
LITTLE ROCK, AR
BELL, JIMMIE MACK | 07/18/2002
BELTON, TX
BENTLEY, EARLE L III | 07/18/2002
RICHLAND, MS
BOLDEN, JACQUELINE | 07/18/2002
GREENVILLE, MS
BOWE, JUDITH MAE | 07/18/2002
WALKER, MN
BOWMAN, MARCELLA E STAPLETON | 07/18/2002
INDEPENDENCE, KY
BRANNON, DONYA S | 07/18/2002
OCEAN SPRINGS, MS
BROADNAX, DENISE CHARLENE | 07/18/2002
CASTRO VALLEY, CA
BROOMFIELD, SHIRLEY ANN | 07/18/2002
LOS ANGELES, CA
BROWN, JAMES M | 07/18/2002
HENDERSONVILLE, TN
BRUNSON, VALERIE MICHELLE | 07/18/2002
BIRMINGHAM, AL
CALLAHAN, JACKIE LYNN | 07/18/2002
HOUSTON, TX
CARPENTER, THOMAS JAMES | 07/18/2002
BELLA VISTA, CA
CARPENTER, ROBERT | 07/18/2002
SAN FRANCISCO, CA
CECH, STEPHEN A | 07/18/2002
BAKERSFIELD, CA
CHAMBERS, DELORA GAYE TAYLOR | 07/18/2002
AMITY, AR
CHO, LEELAND PHILIP | 07/18/2002
ANCHORAGE, AK
CLAIR, MICHAEL JEROME | 07/18/2002
ORLANDO, FL
CLARK, HEATHER L | 07/18/2002
ANDALUSIA, AL
CLARK, MARVARAI | 07/18/2002
LUCEDALE, MS
COMRIE, SHIRLEY M | 07/18/2002
TRENTON, NJ
CONSTANTINO, LISA | 07/18/2002
SAN FRANCISCO, CA
CONTRERAS, MICAEL ANTHONY | 07/18/2002
STOCKTON, CA
CUARTAS, ANNA | 07/18/2002
PEMBROKE PINES, FL
DAVIS, MARCY S | 07/18/2002
DELRAY BEACH, FL
DAVIS, DORA JO | 07/18/2002
CARBON HILL, AL
DENNISON, AMY CAROL FOUSHEE | 07/18/2002
LOUISVILLE, KY
DOVE, JOSEPH F | 07/18/2002
JOELTON, TN
EADDY, PAMELA DIANE | 07/18/2002
LONG BEACH, CA
EKSTEROWICZ, DEBORAH | 07/18/2002
MT EPHRAIM, NJ
EWING, JOYCELYN | 07/18/2002
MONTICELLO, MS
EYE, PAULA M | 07/18/2002
CHILLICOTHE, MO
FANNING, KELLY L | 07/18/2002
NARRAGANSETT, RI
FARAH, MINA | 07/18/2002
RICHMOND HILL, NY
FARMER, SHERRI LYNN | 07/18/2002
JACKSONS GAP, AL
FEDER, ROBERT DEAN | 07/18/2002
CHICO, CA
FISCHER, MARIE TENBARGE | 07/18/2002
EVANSVILLE, IN
FISHER, BLAISE N | 07/18/2002
DORCHESTER, MA
FORRESTER, RON P JR | 07/18/2002
ROCKFORD, IL
FOWLER, EDWARD ANDREW | 07/18/2002
JACKSONVILLE, NC
FRANKLIN, TERESA JO | 07/18/2002
COON RAPIDS, MN
FRAYSIER, KAREN K | 07/18/2002
GRAY, TN
FRAZIER, ALEXANDER GORDON | 07/18/2002
ASHTABULA, OH
FUREY, DANIEL MARLOW | 07/18/2002
ST ALBANS, NY
GADSON, SHEILA DENISE | 07/18/2002
HUNTSVILLE, AL
GARDNER, JAMES DONALD | 07/18/2002
FRESNO, CA
GELORMINO, CHRISTOPHER JAMES | 07/18/2002
SANTA ROSA, CA
GILLIAM, MELISSA SUE | 07/18/2002
PORTER, TX
GOLDWATER, EDWARD G | 07/18/2002
PHOENIX, AZ
GRAY, LENA MARIE | 07/18/2002
LAFAYETTE, IN
GRAY, RALPH C | 07/18/2002
ELIZABETH CITY, VA
GREENE, LESLIE H SMITH | 07/18/2002
EPPING, NH
GREENE, CHARLENE ADELE | 07/18/2002
LONG BEACH, CA
GUDKNECHT, CECILIA ANN | 07/18/2002
CATHEDRAL CITY, CA
GULLEY, LOIS MARIE | 07/18/2002
STOCKTON, CA
HALL, JOSEPH I | 07/18/2002
CLEVELAND, TN
HAMILTON, JAMES RALPH JR | 07/18/2002
CLANTON, AL
HARNER, LAURA PIERCY | 07/18/2002
NEW RIVER, AZ
HIPP, KAREN | 07/18/2002
GRENADA, MS
HOFFMAN, JOSEPHINE A | 07/18/2002
WORCESTER, MA
HOLBROOK, JAMES K | 07/18/2002
MOREHEAD, KY
HOLDER, REA ANN | 07/18/2002
AZLE, TX
HOLDRIDGE, CHARLOTTE ANNE | 07/18/2002
DADEVILLE, AL
HOLLINS, CAMELLIA ROSE | 07/18/2002
MINNEAPOLIS, MN
HUCKABY, WINSTON JR | 07/18/2002
PASADENA, TX
HUNEYCUTT, CAROLINE ANN | 07/18/2002
HUNTSVILLE, AL
HUNKIN, JENNIFER MAY | 07/18/2002
MCALLEN, TX
HUNSICKER, MARILYN | 07/18/2002
GALLUP, NM
IANNELLI, MICHAEL G | 07/18/2002
W WARWICK, RI
IRONS, SHERRY L | 07/18/2002
PASCOAG, RI
JACKSON, SAMUEL S | 07/18/2002
NASHVILLE, TN
JENKINS, BARBARA ROWE | 07/18/2002
PINE BLUFF, AR
JOHNSON, GAYE PRESTON | 07/18/2002
BALLINGER, TX
JOHNSON, JILL OLIVIA ELLIOT | 07/18/2002
OWENSBORO, KY
JOHNSTON, HEATHER OAKLEY | 07/18/2002
NEW BRIGHTEN, PA
JONES, JEREMY P | 07/18/2002
MESA, AZ
KEECH, DEBRA JANE | 07/18/2002
STILLWATER, MN
KIM, CHIN HO | 07/18/2002
LOS ANGELES, CA
KING, JESSE ROBERT | 07/18/2002
FOUNTAIN VALLEY, CA
KING, DANIEL LEE | 07/18/2002
NAPA, CA
KOGAN, ELEONORA | 07/18/2002
KNOXVILLE, TN
KONRAD-PIALA, JULIA DIANE | 07/18/2002
RAMONA, CA
LAMOUREUX, MELISSA S | 07/18/2002
WOONSOCKET, RI
LANG, JULIE A | 07/18/2002
FOSTER, RI
LANIER, JUDY ANN | 07/18/2002
GLADEWATER, TX
LATHAM, KATHY RUSSELL | 07/18/2002
IVANHOE, TX
LAWRENCE, JADAH RASHIDAH | 07/18/2002
CHICAGO, IL
LEE, SUN KUN | 07/18/2002
LA MIRADA, CA
LOWE, THERESA YVONNE | 07/18/2002
ARLINGTON, TX
MAAS, MARK JAMES | 07/18/2002
LICKING, MO
MACGREGOR, SHARON ELOUISE | 07/18/2002
WOODLAND, CA
MADISON, MARCIA ELLEN | 07/18/2002
CAMBRIDGE, MN
MARDIS, JOSEPH S | 07/18/2002
GRENADA, MS
MARIANO, LENI | 07/18/2002
MILL CREEK, WA
MCCOLLEY, RHONDA K | 07/18/2002
DIAMONDHEAD, MS
MCGRATH, JAMES JOHN | 07/18/2002
TUCSON, AZ
MCGUIRE, JOAN ANN | 07/18/2002
HACKENSACK, MN
MIKE, SANDRA JO | 07/18/2002
SAN FRANCISCO, CA
MONTAYRE, PATERNO E | 07/18/2002
SPRING HILL, FL
MONTGOMERY, CARTIUS LYONE | 07/18/2002
HALEYVILLE, AL
MOORE, ROBERT FRANKLIN | 07/18/2002
LORAIN, OH
MURRAY, BETHANY SUZANNE | 07/18/2002
NICEVILLE, FL
MYERS, MARY | 07/18/2002
LUFKIN, TX
NELSON, MARY LOUISE | 07/18/2002
ONYX, CA
NIELSEN, SKOTT NIELS-JORGEN | 07/18/2002
DULUTH, MN
NOVICK, JAMES STEPHEN | 07/18/2002
GLENDALE, CA
O'DELL, LAWRENCE WAYNE | 07/18/2002
SPRINGFIELD, OR
ODEN, KELLY ANN | 07/18/2002
GLENCOE, AL
OSBORNE, LINDA S | 07/18/2002
POULTNEY, VT
PALAZZO, DOROTHY B | 07/18/2002
W WARWICK, RI
PAPWORTH, SUSAN L | 07/18/2002
SALT LAKE CITY, UT
PAQUETTE, BRUCE | 07/18/2002
LAKE WORTH, FL
PATTERSON, PAULETTE | 07/18/2002
COLLINS, MS
PEABODY, JAMES PAUL | 07/18/2002
MESA, AZ
PEARSON, DONALD EUGENE | 07/18/2002
SAN DIMAS, CA
PETLOCK, GERALD A | 07/18/2002
DALY CITY, CA
PIERCE, JOHN | 07/18/2002
NEW ORLEANS, LA
PITTS, VESTA LEE | 07/18/2002
PLAINVIEW, TX
PRATT, WAYNE PAUL | 07/18/2002
ROCKLEDGE, FL
PREUITT, KIMBERLY | 07/18/2002
OXFORD, MS
PRUETT, JUDY KATHLEEN | 07/18/2002
SLIDELL, TX
PUNCHARD, KEISHA | 07/18/2002
WINNSBORO, LA
QUARTARONE, KEVIN FRANK | 07/18/2002
N MIAMI BCH, FL
RATHBUN, TERRY COLEMAN | 07/18/2002
DOWNINGTOWN, PA
RATHER, ROBERT WILLIAM | 07/18/2002
VALLEJO, CA
RAVANERA, RUDOLPHO | 07/18/2002
S SAN FRANCISCO, CA
RAVENTOS, MICHAEL | 07/18/2002
PLEASANTON, CA
RAYMO, VIRGINIA A | 07/18/2002
ENOSBURG FALLS, VT
REDLAND DRUGS, INC | 07/18/2002
MIAMI, FL
REULE, JEREMY KARL | 07/18/2002
RIVER FALLS, WI
RILEY, JILL KATHLEEN | 07/18/2002
N LITTLE ROCK, AR
ROBINSON, COLLEEN BONNIE | 07/18/2002
CRESCENT CITY, CA
ROBINSON, STACY GIBSON | 07/18/2002
INDIANOLA, MS
ROBINSON-PURVIS, LORA ANN | 07/18/2002
JACKSON, MS
RODGERS, ROCHELL | 07/18/2002
CANTON, MS
RUSH, MELANIE ANN | 07/18/2002
KENTON, OH
RUSSO, THERESA M | 07/18/2002
S CHATHAM, MA
RUST, BOBBI JO | 07/18/2002
SPRINGFIELD, MO
SALTER, DAVID EARL | 07/18/2002
HAYWARD, CA
SAMADANI, SEPEHR | 07/18/2002
LOS ANGELES, CA
SANTANA, NANCY | 07/18/2002
TUCSON, AZ
SAWYER, STARLA S | 07/18/2002
YUMA, AZ
SAWYER, STEPHANIE LYNN | 07/18/2002
JASPER, AL
SCHIPANI, MICHAEL L | 07/18/2002
PITTSBURGH, PA
SCHNEIDER, HARVEY G | 07/18/2002
SHARON, MA
SCHNUCH, FREDERICK HUBERT | 07/18/2002
VENTURA, CA
SCHOBER, MARY KIM | 07/18/2002
BURLINGTON, VT
SCHOLZ, LINDA L | 07/18/2002
PAWTUCKET, RI
SERMCHIEF, CHAIYARAT | 07/18/2002
FREDERICKTOWN, MO
SISK, KATHLEEN | 07/18/2002
WESTHOPE, ND
SMARS, GUNNAR ANDERS | 07/18/2002
REDLANDS, CA
SMITH, ROBYN GREER | 07/18/2002
AUSTIN, TX
SOBH, FADI AHMAD | 07/18/2002
DEARBORN, MI
SOLOMON, BENJAMIN | 07/18/2002
PEMBROKE PINE, FL
SPALDING, STACY | 07/18/2002
PEARL, MS
SPRAGUE, THOMAS B | 07/18/2002
OAKDALE, CA
STORM, BEVERLY J | 07/18/2002
FLUSHING, MI
TAVAROZZI, LAURIE ANN | 07/18/2002
WARWICK, RI
TAYLOR, DONNA M | 07/18/2002
COLUMBUS, OH
TETERS, TERRY R | 07/18/2002
ELK GROVE VILLAGE, IL
THACKER, BRANDY KAY | 07/18/2002
ROCKVILLE, IN
THOMAS, ALESIA LAVERNE | 07/18/2002
MOBILE, AL
UFFMAN, VICCI KENSLEY | 07/18/2002
LEXINGTON, KY
VAN MEERVELD, BRIDGET | 07/18/2002
BELVIDERE, IL
VIDEAU, WANDA | 07/18/2002
AVONDALE, LA
VILLANUEVA, LUCITO | 07/18/2002
AMERICAN CANYON, CA
WALKER, PAMELA | 07/18/2002
LAMBERT, MS
WALSH, LINDA S | 07/18/2002
MUNCIE, IN
WASCHER, ARTWEN A | 07/18/2002
LAS VEGAS, NV
WEBB, LINDA | 07/18/2002
GREENVILLE, MS
WEBER, ROBERT FRANCIS | 07/18/2002
DULUTH, MN
WELLS, MARILYN | 07/18/2002
PHOENIX, AZ
WENNER, JEFFREY A | 07/18/2002
PORT HUERERE, CA
WERTH-MOORE, ADRIEN RAY | 07/18/2002
SAN LEANDRO, CA
WESLEY, TRACY | 07/18/2002
BEREA, KY
WESTMORELAND, VICKIE JEAN | 07/18/2002
WELLINGTON, TX
WHITE, CYNTHIA | 07/18/2002
SHANNON, MS
WILLIAMS, MELISSA V | 07/18/2002
WATAGA, IL
WINKEL, CAROL ESTHER | 07/18/2002
MINNEAPOLIS, MN
WINSTON, JEFF WAYNE | 07/18/2002
PARAGOULD, AR
WOODARD, LINDA LU | 07/18/2002
WEATHERFORD, TX
WYNN, JUDY DIANE | 07/18/2002
CLEBURNE, TX
YOUNG, JOSEPH D | 07/18/2002
SAN LUIS OBISPO, CA
ZIEMSKI, LINDA LEE | 07/18/2002
DULUTH, MN
FEDERAL/STATE EXCLUSION/SUSPENSION
BENSON, LESLIE K | 07/18/2002
SAN CLEMENTE, CA
PALMER, LUCKETT M | 07/18/2002
LOS ANGELES, CA
FRAUD/KICKBACKS
COOPER, KAREN | 07/18/2002
EAGLE POINT, OR
KUEBLER, WALTER J | 01/01/2002
BOWLING GREEN, KY
MCGOVERN, DANA | 04/16/2002
PORT CHARLOTTE, FL
MCGUIRE, KAY F | 01/31/2002
WARRENTON, OR
ONETO, CLARENCE M (LARRY) | 06/15/2002
COOKEVILLE, TN
TERRANOVA, MARK DANTE | 07/18/2002
WARRENTON, OR
OWNED/CONTROLLED BY CONVICTED ENTITIES
ALPHA OMEGA HEALTH CARE MGMT | 07/18/2002
COLEMAN, FL
AUBURNDALE HEALTH CARE INSTITU | 07/18/2002
COLEMAN, FL
BOWLING GREEN HEALTH CARE CORP | 07/18/2002
COLEMAN, FL
DOCTOR CENTER MEDICAL | 07/18/2002
MIAMI, FL
G & G MANAGEMENT, INC | 07/18/2002
MIAMI, FL
GAH CHIROPRACTIC CTR, P C | 07/18/2002
ANAHEIM, CA
GRAND ACUPRESSURE, CLINIC | 07/18/2002
WALNUT, CA
HEALTH CLINIC MANAGEMENT, INC | 07/18/2002
MIAMI, FL
INFU TRENDS, INC | 07/18/2002
HOLLYWOOD, FL
IV PHARMACEUTICAL WHOLESALERS | 07/18/2002
HOLLYWOOD, FL
L G M D INVESTMENT CO, LTD | 07/18/2002
MIAMI, FL
LA MESA MEDICAL ASSOC, INC | 07/18/2002
LA MESA, CA
LIBRA MEDICAL, INC | 07/18/2002
BELLE GLADE, FL
LJ HOME HEALTH SERVICES, INC | 07/18/2002
MAPLEWOOD, MN
M & R EQUIPMENT, INC | 07/18/2002
MIAMI, FL
M E V ENTERPRISE, INC | 07/18/2002
MIAMI BEACH, FL
PRIME QUALITY MEDICAL SVCS | 07/18/2002
BELLE GLADE, FL
S SCOTT LASTER, DDS, INC, P C | 07/18/2002
INOLA, OK
Z & R SERVICES, INC | 07/18/2002
MIAMI, FL
DEFAULT ON HEAL LOAN
ANDERSON, RUSSELL NOEL | 05/28/2002
LAS VEGAS, NV
BASTECKI, ALLEN R | 07/18/2002
AMES, IA
SAINT-PHARD, GUERCY | 06/04/2002
TAMPA, FL
TIMOTHY D LUCEY, LTD | 07/18/2002
NEWBURGH, NY
VERDELL, CLARENCE R | 05/20/2002
VOORHEES, NJ

Dated: July 2, 2002.
Calvin Anderson, Jr.,
Director, Health Care Administrative Sanctions, Office of Inspector General.

[FR Doc. 02-17250 Filed 7-9-02; 8:45 am]

BILLING CODE 4150-04-P